DEPARTMENT OF COMMERCE

International Trade Administration

[A-428-844]

Carbon and Alloy Steel Cut-to-Length Plate From Germany: Partial Rescission of Antidumping Duty Administrative Review; 2016-2018

AGENCY: Enforcement and Compliance, International Trade Administration, Department of Commerce.

SUMMARY: The Department of Commerce (Commerce) is partially rescinding its administrative review of the antidumping duty (AD) order on carbon and alloy steel cut-to-length plate (CTL plate) from Germany for the period of review (POR) November 14, 2016, through April 30, 2018.

DATES: Applicable October 23, 2018.

FOR FURTHER INFORMATION CONTACT: Ross Belliveau, Enforcement and Compliance, International Trade Administration, U.S. Department of Commerce, 1401 Constitution Avenue NW, Washington, DC 20230; telephone: (202) 482-4952.

SUPPLEMENTARY INFORMATION:

Background

On May 1, 2018, Commerce published in the Federal Register a notice of “Opportunity to Request Administrative Review” of the antidumping duty order on CTL plate from Germany for the POR.¹ In May 2018, Commerce received multiple timely requests to conduct an administrative review of the antidumping duty order on CTL plate from Germany.

¹ See Antidumping or Countervailing Duty Order, Finding, or Suspended Investigation; Opportunity to Request Administrative Review, 83 FR 19047 (May 1, 2018).

On July 12, 2018, in accordance with section 751(a) of the Tariff Act of 1930, as amended (the Act), Commerce published in the Federal Register a notice of initiation of an administrative review of the AD order.² The administrative review was initiated with respect to 15 companies and covers the period November 14, 2016, through April 30, 2018. Subsequent to the initiation of the administrative review, VDM Metals GmbH and VDM Metals International GmbH (collectively, VDM), an interested party, timely withdrew its request for review, as discussed below.

² See Initiation of Antidumping and Countervailing Duty Administrative Reviews, 83 FR 32270 (July 12, 2018) (Initiation Notice); see also Initiation of Antidumping and Countervailing Duty Administrative Reviews, 83 FR 39688, 39690 (August 10, 2018).

Partial Rescission of Review

Pursuant to 19 CFR 351.213(d)(1), Commerce will rescind an administrative review, in whole or in part, if a party that requested a review withdraws its request within 90 days of the date of publication of notice of initiation of the requested review. VDM withdrew its requests for an administrative review within 90 days of the date of publication of the Initiation Notice.³ Accordingly, Commerce is rescinding this review, in part, with respect to VDM Metals GmbH and VDM Metals International GmbH, in accordance with 19 CFR 353.213(d)(1).

³ See Letter from VDM, “Re: Carbon and Alloy Steel Cut-to-Length Plate from Germany: Withdrawal of Review Request for VDM,” dated August 8, 2018.

The instant review will continue with respect to the following companies: AG der Dillinger Hüttenwerke; Perficon Steel GmbH; Reiner Brach GmbH & Co. KG; Rudolf Rafflenbeul Stahlwarenfabrik GmbH & Co; Ilsenburger Grobblech GmbH, Salzgitter Mannesmann Grobblech GmbH, Salzgitter Flachstahl GmbH, and Salzgitter Mannesmann International GmbH (collectively, Salzgitter); Tenova (TAKRAF GmbH Lauchhammer); ThyssenKrupp Steel Europe AG; ThyssenKrupp Schulte GmbH; UPC Universal Piping GmbH; and VETTER Umformtechnik GmbH.

Assessment

Commerce will instruct U.S. Customs and Border Protection (CBP) to assess antidumping duties on all appropriate entries. For the companies for which this review is rescinded, antidumping duties shall be assessed at rates equal to the cash deposit of estimated antidumping duties required at the time of entry, or withdrawal from warehouse, for consumption, during the period November 14, 2016, through April 30, 2018, in accordance with 19 CFR 351.212(c)(1)(i). Commerce intends to issue appropriate assessment instructions directly to CBP 15 days after the date of publication of this notice in the Federal Register.

Notification to Importers

This notice serves as the only reminder to importers whose entries will be liquidated as a result of this rescission notice, of their responsibility under 19 CFR 351.402(f)(2) to file a certificate regarding the reimbursement of antidumping duties and/or countervailing duties prior to liquidation of the relevant entries during this review period. Failure to comply with this requirement may result in the presumption that reimbursement of antidumping duties and/or countervailing duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation. This notice is issued and published in accordance with sections 751(a)(1) and 777(i)(1) of the Act, and 19 CFR 351.213(d)(4).

Dated: October 17, 2018.
James Maeder,
Associate Deputy Assistant Secretary for Antidumping and Countervailing Duty Operations performing the duties of Deputy Assistant Secretary for Antidumping and Countervailing Duty Operations.

[FR Doc. 2018-23051 Filed 10-22-18; 8:45 am]

BILLING CODE 3510-DS-P